DEPARTMENT OF ENERGY

Federal Energy Regulatory Commission

[Docket No. RD22-3-000]

Commission Information Collection Activities (FERC-725U)

AGENCY: Federal Energy Regulatory Commission, Department of Energy.

ACTION: Notice of information collection and request for comments.

SUMMARY: In compliance with the requirements of the Paperwork Reduction Act of 1995, the Federal Energy Regulatory Commission FERC-725U, Mandatory Reliability Standards for the Bulk Power System; CIP Reliability Standards, which will be submitted to the Office of Management and Budget (OMB) for review. No Comments were received on the 60-day notice published on June 24, 2022.

DATES: Comments on the collection of information are due October 11, 2022.

ADDRESSES: Send written comments on FERC-725U, Mandatory Reliability Standards for the Bulk Power System; CIP Reliability Standards to OMB through www.reginfo.gov/public/do/PRAMain. Attention: Federal Energy Regulatory Commission Desk Officer. Please identify the OMB Control No: 1902-0274(FERC-725U) in the subject line of your comments. Comments should be sent within 30 days of publication of this notice to www.reginfo.gov/public/do/PRAMain.

Please submit copies of your comments to the Commission. You may submit copies of your comments (identified by Docket No. RD22-3-000) by one of the following methods:

Electronic filing through https://www.ferc.gov, is preferred.

• Electronic Filing: Documents must be filed in acceptable native applications and print-to-PDF, but not in scanned or picture format.

• For those unable to file electronically, comments may be filed by USPS mail or by hand (including courier) delivery.

○ Mail via U.S. Postal Service Only: Addressed to: Federal Energy Regulatory Commission, Secretary of the Commission, 888 First Street NE, Washington, DC 20426.

○ Hand (including courier) delivery: Deliver to: Federal Energy Regulatory Commission, Secretary of the Commission, 12225 Wilkins Avenue, Rockville, MD 20852.

Instructions: OMB submissions must be formatted and filed in accordance with submission guidelines at www.reginfo.gov/public/do/PRAMain. Using the search function under the “Currently Under Review” field, select Federal Energy Regulatory Commission; click “submit,” and select “comment” to the right of the subject collection.

FERC submissions must be formatted and filed in accordance with submission guidelines at: https://www.ferc.gov. For user assistance, contact FERC Online Support by email at ferconlinesupport@ferc.gov, or by phone at: (866) 208-3676 (toll-free).

Docket: Users interested in receiving automatic notification of activity in this docket or in viewing/downloading comments and issuances in this docket may do so at https://www.ferc.gov/ferc-online/overview.

FOR FURTHER INFORMATION CONTACT: Ellen Brown may be reached by email at DataClearance@FERC.gov, telephone at (202) 502-8663.

SUPPLEMENTARY INFORMATION:

Title: FERC-725U, Mandatory Reliability Standards for the Bulk Power System; CIP Reliability Standards.

OMB Control No.: 1902-0274(FERC-725U).

Type of Request: Approval of the change from the removal of the recordkeeping requirement in (C.1.1.4) the currently approved collection: FERC-725U. There are no changes in burden resulting from this change.

Abstract: In compliance with the requirements of the Paperwork Reduction Act of 1995, 44 U.S.C. 3506(c)(2)(A), the Commission is soliciting public comment on revisions to the information collection FERC-725U, Mandatory Reliability Standards for the Bulk Power System; CIP Reliability Standards; which will be submitted to the Office of Management and Budget (OMB) for a review of the information collection requirements. Comments on the collection of information are due within 60 days of the date this order is published in the Federal Register. Respondents subject to the filing requirements of this order will not be penalized for failing to respond to these collections of information unless the collections of information display a valid OMB control number.

The information collection requirements are subject to review by the OMB under section 3507(d) of the Paperwork Reduction Act of 1995.¹ OMB's regulations require approval of certain information collection requirements imposed by agency rules.² The Commission solicits comments on the Commission's need for this information, whether the information will have practical utility, the accuracy of the burden estimates, ways to enhance the quality, utility, and clarity of the information to be collected or retained, and any suggested methods for minimizing respondents' burden, including the use of automated information techniques.

¹ 44 U.S.C. 3507(d).

² 5 CFR 1320 (2021).

The number of respondents below is based on an estimate of the NERC compliance registry for transmission owners and transmission operator. The Commission based its paperwork burden estimates on the NERC compliance registry as of May 6, 2022. According to the registry, there are 326 transmission owners and 18 transmission operators not also registered as transmission owners. The estimate is based on a zero change in burden from the current standard to the standard approved in this Order. The Commission based the burden estimate on staff experience, knowledge, and expertise.

For the new Reliability Standard CIP-014-3, the burden for entities remains the same as they will still need to provide the same evidence to demonstrate compliance whether it is kept on-site or loaded electronically into the SEL. No comments were received that expressed a change in the manhour burden associated with the use of SEL.

Respondents: Business or other for profit, and not for profit institutions.

Frequency of Responses: On occasion.

Necessity of the Information: Reliability Standard CIP-014-3 (Physical Security) is part of the implementation of the Congressional mandate of the Energy Policy Act of 2005 to develop mandatory and enforceable Reliability Standards to better ensure the reliability of the nation's Bulk Power system. Specifically, the revised standard only changes the how the evidence is stored.

Internal review: The Commission has reviewed NERC's proposal and determined that its action is necessary to implement section 215 of the FPA.

Burden Estimates: The Commission estimates the changes in the annual public reporting burden and cost ³ as indicated below:

³ FERC staff estimates that industry costs for salary plus benefits are similar to Commission costs. The FERC 2021 average salary plus benefits for one FERC full-time equivalent (FTE) is $180,703/year (or $87.00/hour) posted by the Bureau of Labor Statistics for the Utilities sector (available at https://www.bls.gov/oes/current/naics3_221000.htm).

FERC-725U: (Mandatory Reliability Standards: Reliability Standard CIP-014) Change in Burden
| Number of respondents ⁴ | Number of responses per respondent | Total number of responses | Average burden hours & cost per response | Total burden hours & total cost | Average cost per respondent
| (1) | (2) | (1) * (2) = (3) | (4) | (3) * (4) = (5) | (5) ÷ (1)
Change Annual Reporting and Recordkeeping | 344 | 1 | 344 | 32.71 hrs.; 2,845.77 | 11,252.24 hrs.; $978,944.88 | $2,845.77
Total FERC-725U | 344 | 1 | 344 | 32.71 hrs.; $2,845.77 | 11,254.24 hrs.; $978,944.88 | 2,845.77

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

⁴ The total number (344) of transmission owners (326) plus transmission operators (18) not also registered as owners, this represents the unique US entities (taken from data as of May 6, 2022).

Dated: September 1, 2022.
Kimberly D. Bose,
Secretary.

[FR Doc. 2022-19399 Filed 9-7-22; 8:45 am]

BILLING CODE 6717-01-P